DEPARTMENT OF COMMERCE

Census Bureau

Agency Information Collection Activities; Submission to the Office of Management and Budget (OMB) for Review and Approval; Comment Request; Annual Retail Trade Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 6, 2020 during a 60-day comment period. This notice allows for an additional 30 days for public comments.

Agency: U.S. Census Bureau.

Title: Annual Retail Trade Survey.

OMB Control Number: 0607-0013.

Form Number(s): SA-44D and SA-44T.

Type of Request: Regular submission. Revision of a currently approved collection.

Number of Respondents: 17,297.

Average Hours per Response: 1 hour and 27 minutes.

Burden Hours: 25,035.

Needs and Uses: The Annual Retail Trade Survey (ARTS) covers employer firms with establishments located in the United States and classified in the retail trade sector as defined by the North American Industry Classification System (NAICS). The survey requests firms to provide annual sales, sales tax, e-commerce sales, year-end inventories, total operating expenses, purchases, and accounts receivable. We also request, for selected industries, sales and e-commerce sales by merchandise line.

The data collected in the Annual Retail Trade Survey provide a current statistical picture of the retail portion of consumer activity. These data are collected to provide a sound statistical basis for the formulation of policy by various government agencies, as well as to serve as a benchmark for the estimates compiled from the Monthly Retail Trade Report. Results will be made available, at the United States summary level, for selected retail trade industries approximately fourteen months after the end of the reference year. ARTS estimates are publicly released based on the North American Industry Classification System (NAICS), which has been widely adopted throughout both the public and private sectors.

As requested by the Bureau of Economic Analysis (BEA), every five years, in survey years ending in “2” and “7”, ARTS requests data on detailed operating expenses from firms. The last time ARTS collected detailed operating expenses was in 2018 for the 2017 survey year. The plan is to reinstate some of these questions in 2023 as part of the 2022 survey year ARTS data collection. For survey year 2020 (collected in 2021), the ARTS will also include improved language and ordering of the questions on the value of inventories and inventory valuation method to ensure a better understanding and response to the questions from respondents. Effective with survey year 2020 and consistent with the agency's goal of harmonizing content across all annual surveys as recommended by the National Academy of Sciences, ARTS will no longer collect accounts receivable data. Survey year 2019 estimates (to be released in February 2021) will be the final year that accounts receivable data are available to the public.

The Census Bureau published a pre-submission notice in the Federal Register on Monday, July 6, 2020 (Vol. 85, No. 129). The notice, which was located on pages 40199 and 40200, proposed additional questions on the ARTS related to the impact of the coronavirus pandemic on firms for survey year 2020. After internal discussions, the Census Bureau decided it will not include additional questions on this survey related to the impact that the coronavirus pandemic had on firms.

This request is for the clearance of two electronic worksheets, the SA-44D and SA-44T. From survey year 2016 through survey year 2019, there were eight electronic form types (SA-44, SA-44A, SA-44C, SA-44D, SA-44E, SA-44N SA-44S and SA-44T). Starting with survey year 2020 (which will be collected in 2021), there will only be the two electronic form types named above. Forms SA-44, SA-44A, SA-44C, SA-44E, SA-44N and SA-44S, are being combined with the remaining forms to reduce respondent burden by streamlining data collection operations on the number of forms received by a company. The two remaining worksheets will collect data from companies with and without merchandise lines, enable us to collect information on a NAICS basis, and to request similar data items. Variations in the electronic worksheets are needed to address the size of the firm, kind-of-business, or data items requested.

The Bureau of Economic Analysis (BEA) uses the data to estimate the change in the private inventories component of gross domestic product (GDP) and output in both the benchmark and annual input-output (I-O) accounts and GDP by industry. Data on sales taxes are also used to prepare estimates of GDP by industry and to derive industry output for the I-O accounts. Data on detailed operating expenses are collected on this survey quinquennially and used to produce national estimates of value added, gross output, and intermediate inputs, and serve as a benchmark for the annual industry accounts, which provide the control totals for the GDP-by-state accounts.

The Bureau of Labor Statistics uses the data as input to its Producer Price Indexes and in developing productivity measurements. Private businesses use the estimates in computing business activity indexes.

Other government agencies and businesses use the data to satisfy a variety of public and business needs such as economic market analysis, company performance, and forecasting future demands.

Affected Public: Business or other for-profit organizations.

Frequency: Annually.

Respondent's Obligation: Mandatory.

Legal Authority: Title 13, United States Code, Sections 131 and 182.

This information collection request may be viewed at www.reginfo.gov. Follow the instructions to view the Department of Commerce collections currently under review by OMB. Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0013.

Sheleen Dumas,
Department PRA Clearance Officer, Office of the Chief Information Officer, Commerce Department.

[FR Doc. 2020-22641 Filed 10-9-20; 8:45 am]

BILLING CODE 3510-07-P